DEPARTMENT OF HEALTH AND HUMAN SERVICES

Centers for Disease Control and Prevention

[Docket No. CDC-2018-0101]

Vessel Sanitation Program: Annual Program Status Meeting; Request for Comment

AGENCY: Centers for Disease Control and Prevention (CDC), Department of Health and Human Services (HHS).

ACTION: Notice of public meeting and request for comment.

SUMMARY: The Centers for Disease Control and Prevention (CDC), located within the Department of Health and Human Services (HHS), announces the 2019 Vessel Sanitation Program (VSP) public meeting. This meeting serves as a forum for HHS/CDC to present clarifications to the 2018 VSP Operations Manual and Construction Guidelines and the proposed fee schedule for fiscal year 2020. HHS/CDC is also opening a public docket so that additional comments and materials may be submitted. The official record of this meeting will remain open through February 22, 2019, so that materials or additional comments related to the matters discussed at the meeting may be submitted and made part of the record.

DATES: Written comments and all materials must be received on or before February 22, 2019.

The meeting will be held from 9:00 a.m. to 4:00 p.m. on January 16, 2019, in the Ballroom at the DoubleTree Grand Hotel Biscayne Bay, 1717 North Bayshore Drive, Miami, FL 33132. Information regarding logistics is available on the VSP website (www.cdc.gov/nceh/vsp).

Deadline for Requests for Special Accommodations: Persons wishing to participate in the public meeting who need special accommodations should contact Commander Aimee Treffiletti (vsp@cdc.gov or 954-356-6650 or 770-488-3141) by Monday, January 14, 2019.

ADDRESSES: You may submit comments, identified by Docket No. CDC-2018-0101, by any of the following methods:

• Federal eRulemaking Portal: www.regulations.gov. Follow the instructions for submitting comments.

• Mail: Vessel Sanitation Program, National Center for Environmental Health, Centers for Disease Control and Prevention, 4770 Buford Highway NE, MS F-58, Atlanta, Georgia 30341.

Instructions: All submissions received must include the agency name and Docket Number. All relevant comments received will be posted without change to www.regulations.gov, including any personal information provided. For access to the docket to read background documents or comments received, go to www.regulations.gov.

FOR FURTHER INFORMATION CONTACT: Commander Aimee Treffiletti, Vessel Sanitation Program, National Center for Environmental Health, Centers for Disease Control and Prevention, 4770 Buford Highway NE, MS F-58, Atlanta, Georgia 30341; phone: 954-356-6650 or 770-488-3141; email: vsp@cdc.gov.

SUPPLEMENTARY INFORMATION: The purpose of the meeting is to present VSP's clarifications to the 2018 Operations Manual and Construction Guidelines and the proposed fee schedule for fiscal year 2020.

The 2018 Operations Manual and Construction Guidelines went into effect on June 1, 2018. Since that time, small errors and the need for clarifications to some sections have been identified.

VSP issues a fee schedule annually and will propose changing the current fee schedule to include an additional size category for the largest cruise ships. Changes to the fee schedule are expected to take effect in fiscal year 2020.

Matters to be Discussed:

• Clarifications to the VSP 2018 Operations Manual and Construction Guidelines.

• Proposed fee schedule for fiscal year 2020.

Meeting Accessibility: The meeting is open to the public, but space is limited to approximately 70 people. Advanced registration is required. Information regarding logistics is available on the VSP website (www.cdc.gov/nceh/vsp). Attendees at the annual meeting normally include cruise ship industry officials, private sanitation consultants, and other interested parties.

Dated: October 17, 2018.
Sandra Cashman,
Executive Secretary, Centers for Disease Control and Prevention.

[FR Doc. 2018-23715 Filed 10-30-18; 8:45 am]

BILLING CODE 4163-18-P